SURFACE TRANSPORTATION BOARD

[Docket No. EP 670 (Sub-No. 3)]

Renewal of Rail Energy Transportation Advisory Committee

AGENCY: Surface Transportation Board.

ACTION: Notice of intent to renew charter.

SUMMARY: In accordance with the Federal Advisory Committee Act, as amended, notice is hereby given that the Surface Transportation Board (Board) intends to renew the charter of the Rail Energy Transportation Advisory Committee (RETAC).

ADDRESSES: A copy of the charter is available on the Board's Web site at https://www.stb.gov/stb/rail/retac.html.

FOR FURTHER INFORMATION CONTACT: Michael Higgins, Designated Federal Officer, at (202) 245-0284. [Assistance for the hearing impaired is available through the Federal Information Relay Service (FIRS) at: (800) 877-8339].

SUPPLEMENTAL INFORMATION: RETAC was established by the Board on September 24, 2007, to provide advice and guidance to the Board, on a continuing basis, and to provide a forum for the discussion of emerging issues and concerns regarding the transportation by rail of energy resources, including, but not necessarily limited to, coal and biofuels (such as ethanol), and petroleum. RETAC functions solely as an advisory body and complies with the provisions of FACA and its implementing regulations.

RETAC consists of up to 25 voting members, excluding the governmental representatives. The membership comprises a balanced representation of individuals experienced in issues affecting the transportation of energy resources, including no fewer than: 5 representatives from the Class I railroads; 3 representatives from Class II and III railroads; 3 representatives from coal producers; 5 representatives from electric utilities (including at least one rural electric cooperative and one state- or municipally-owned utility); 4 representatives from biofuel feedstock growers or providers, and biofuel refiners, processors, and distributors; 2 representatives from private car owners, car lessors, or car manufacturers; and, 1 representative from the petroleum shipping industry. The Committee may also include up to 2 members with relevant experience but not necessarily affiliated with one of the aforementioned industries or sectors. All voting members of the Committee serve in a representative capacity on behalf of their respective industry or stakeholder group. The Vice Chairman of the Board is an ex officio (non-voting) member of RETAC. Representatives from the U.S. Departments of Agriculture, Energy, and Transportation; and the Federal Energy Regulatory Commission may be invited to serve on the Committee in an advisory capacity as ex officio (non-voting) members.

RETAC meets at least twice a year, and meetings are open to the public, consistent with the Government in the Sunshine Act, Public Law 94-409 (1976).

Further information about RETAC is available on the Board's Web site (https://www.stb.gov/stb/rail/retac.html) and at the GSA's FACA Database (https://facadatabase.gov/).

Decided: September 19, 2017.
By the Board, Scott M. Zimmerman, Acting Director, Office of Proceedings.
Jeffrey Herzig,
Clearance Clerk.

[FR Doc. 2017-20288 Filed 9-21-17; 8:45 am]

BILLING CODE 4915-01-P